ENVIRONMENTAL PROTECTION AGENCY

40 CFR Part 63

[EPA-R06-OAR-2017-0061; FRL-9972-29-Region 6]

National Emission Standards for Hazardous Air Pollutants; Delegation of Authority to Texas

AGENCY: Environmental Protection Agency (EPA).

ACTION: Proposed rule.

SUMMARY: The Texas Commission on Environmental Quality (TCEQ) has submitted updated regulations for receiving delegation of EPA authority for implementation and enforcement of National Emission Standards for Hazardous Air Pollutants (NESHAP) for all sources (both part 70 and non-part 70 sources). These regulations apply to certain NESHAP promulgated by the EPA, as amended between April 24, 2013 and August 3, 2016. The delegation of authority under this action does not apply to sources located in Indian Country. The EPA is providing notice proposing to approve the delegation of certain NESHAPs to TCEQ.

DATES: Written comments should be received on or before February 12, 2018.

ADDRESSES: Submit your comments, identified by EPA-R06-OAR-2017-0061, at http://www.regulations.gov or via email to barrett.richard@epa.gov. For additional information on how to submit comments see the detailed instructions in the ADDRESSES section of the direct final rule located in the rules section of this issue of the Federal Register.

FOR FURTHER INFORMATION CONTACT: Mr. Rick Barrett, (214) 665-7227; email: barrett.richard@epa.gov.

SUPPLEMENTARY INFORMATION: In the final rules section of this issue of the Federal Register, the EPA is approving TCEQ's request for delegation of authority to implement and enforce certain NESHAP for all sources (both part 70 and non-part 70 sources). TCEQ has adopted certain NESHAP by reference into Texas's state regulations. In addition, the EPA is waiving its notification requirements so sources will only need to send notifications and reports to TCEQ. The EPA is taking direct final action without prior proposal because the EPA views this as a noncontroversial action and anticipates no adverse comments. A detailed rationale for the approval is set forth in the direct final rule. If no relevant adverse comments are received in response to this action, no further activity is contemplated. If the EPA receives relevant adverse comments, the direct final rule will be withdrawn, and all public comments received will be addressed in a subsequent final rule based on this proposed rule. The EPA will not institute a second comment period. Any parties interested in commenting should do so at this time.

For additional information, see the direct final rule which is located in the rules section of this issue of the Federal Register.

Dated: January 4, 2018.
Wren Stenger,
Director, Multimedia Division, Region 6.

[FR Doc. 2018-00448 Filed 1-11-18; 8:45 am]

BILLING CODE 6560-50-P